DEPARTMENT OF COMMERCE

International Trade Administration

[A-570-970]

Multilayered Wood Flooring From the People's Republic of China; Preliminary Results and Partial Rescission of Antidumping Duty New Shipper Reviews; 2014-2015

AGENCY: Enforcement and Compliance, International Trade Administration, Department of Commerce.

SUMMARY: The Department of Commerce (“the Department”) is conducting new shipper reviews (“NSR”) of the antidumping duty order on multilayered wood flooring (“MLWF”) from the People's Republic of China (“PRC”). The review covers two exporters of subject merchandise, Jiangsu Keri Wood Co., Ltd. (“Keri Wood”) and Zhejiang Simite Wooden Co., Ltd. (“Simite Wooden”). The Department preliminarily determines that Keri Wood did not make sales of subject merchandise at less than normal value. The period of review (“POR”) is December 1, 2014, through November 30, 2015. The Department also preliminarily determines that Simite Wooden's sale to the United States is not bona fide, as required by section 751(a)(2)(B)(iv) of the Tariff Act of 1930, as amended (“the Act”). Therefore, we are preliminarily rescinding the NSR with respect to Simite Wooden. Interested parties are invited to comment on the preliminary results of these reviews.

DATES: Effective December 28, 2016.

FOR FURTHER INFORMATION CONTACT: Maisha Cryor or Robert Bolling, AD/CVD Operations, Office IV, Enforcement and Compliance, International Trade Administration, U.S. Department of Commerce, 1401 Constitution Avenue NW., Washington, DC 20230; telephone: (202) 482-5831 or (202) 482-3434, respectively.

SUPPLEMENTARY INFORMATION:

Background

On January 27, 2016, the Department published a notice of initiation of two new shipper reviews of the antidumping duty order on MLWF from the PRC.¹ The Department subsequently issued antidumping duty questionnaires, and supplemental questionnaires, to Keri Wood and Simite Wooden and received timely responses thereto. Also, Keri Wood and Simite Wooden submitted comments on surrogate country and surrogate value selection.² No other party submitted surrogate country or surrogate value comments. On June 23, 2016, the Department extended the time period for issuing the preliminary results of these reviews by 120 days, until November 20, 2016.³ On November 15, 2016, the Department aligned these NSRs with the fourth administrative review of MLWF from the PRC.⁴ On November 20, 2014, the Department extended the preliminary results until December 20, 2016, to align with the fourth administrative review of this proceeding.⁵

¹ See Multilayered Wood Flooring from the People's Republic of China: Initiation of Antidumping Duty New Shipper Reviews, 81 FR 4612 (January 27, 2016) (“Initiation Notice”).

² See “See Simite Wooden's Letter to the Department, Multilayered Wood Flooring from the People's Republic of China; A-570-970; Surrogate Values for the Preliminary Results, dated May 10, 2016; see also Keri Wood's Letter to the Department, Multilayered Wood Flooring rom the People's Republic of China: Comments Regarding Surrogate Value Selection, dated May 23, 2016.

³ See Memorandum to Christian Marsh, Deputy Assistant Secretary for Antidumping and Countervailing Duty Operations, from Maisha Cryor, Office IV, Antidumping and Countervailing Duty Operations, entitled, “Multilayered Wood Flooring from the People's Republic of China: Extension of Deadline for Preliminary Results of Antidumping Duty New Shipper Reviews” dated June 23, 2016.

⁴ See Memorandum to the File, regarding “Alignment of the New Shipper Reviews of the Antidumping Duty Order on Multilayered Wood Flooring from the People's Republic of China with the Concurrent Administrative Review of Multilayered Wood Flooring from the People's Republic of China” (November 15, 2016).

⁵ See Memorandum to Christian Marsh, Deputy Assistant Secretary for Antidumping and Countervailing Duty Operations, from Maisha Cryor, Office IV, Antidumping and Countervailing Duty Operations, entitled, “Multilayered Wood Flooring from the People's Republic of China: Extension of Deadline for Preliminary Results of Antidumping Duty New Shipper Reviews” dated June 23, 2016; see also Memorandum to the File, regarding “Extension of Deadline for the Preliminary Results of the New Shipper Reviews of Multilayered Wood Flooring from the People's Republic of China” (November 20, 2016).

Scope of the Order

The merchandise covered by the order is multilayered wood flooring, which is composed of an assembly of two or more layers or plies of wood veneers ⁶ in combination with a core.⁷ Merchandise covered by this review is classifiable under subheadings 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500 of the Harmonized Tariff Schedule of the United States (“HTSUS”). Although the HTSUS subheadings are provided for convenience and customs purposes, our written description of the scope of the order is dispositive.

⁶ A “veneer” is a thin slice of wood, rotary cut, sliced or sawed from a log, bolt or flitch. Veneer is referred to as a ply when assembled.

⁷ For a complete description of the scope of the order, see Memorandum from Christian Marsh, Deputy Assistant Secretary for Antidumping and Countervailing Operations, to Paul Piquado, Assistant Secretary for Enforcement and Compliance, entitled “Preliminary Rescission of the 2013-2014 Antidumping Duty New Shipper Review: Multilayered Wood Flooring from the People's Republic of China” issued concurrently with and hereby adopted by this notice (“Preliminary Decision Memorandum”).

Methodology

The Department is conducting these reviews in accordance with section 751(a)(2)(B) of the Act and 19 CFR 351.214. Export prices have been calculated in accordance with section 772 of the Act. Because the PRC is a non-market economy within the meaning of section 771(18) of the Act, NV has been calculated in accordance with section 773(c) of the Act. For a full description of the methodology underlying our conclusions, see the Preliminary Decision Memorandum. A list of topics discussed in the Preliminary Decision Memorandum is in the attached Appendix to this notice.

The Preliminary Decision Memorandum is a public document and is on file electronically via Enforcement and Compliance's centralized electronic service system (ACCESS). ACCESS is available to registered users at http://access.trade.gov, and it is available to all parties in the Department's Central Records Unit, B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Results of New Shipper Review

As discussed in Bona Fide Sales Analysis Memorandum,⁸ the Department preliminarily finds that the sale made by Simite Wooden to the United States is not a bona fide sale. ⁹ Because the non-bona fide sale was the only reported sale of subject merchandise by Simite Wooden during the POR, and thus there are no other reviewable transactions for Simite Wooden, we are preliminarily rescinding its NSR. Because much of the factual information used in our analysis of Simite Wooden's sale involves business proprietary information, a full discussion of the basis for our preliminary determination regarding Simite Wooden is set forth in the Bona Fide Sales Analysis Memoranda, which is on the record of this proceeding.

⁸ See Memorandum from Maisha Cryor, Office IV AD/CVD Operations, to Abdelali Elouaradia, Director, Enforcement and Compliance, Office IV entitled “Antidumping Duty New Shipper Review of Multilayered Wood Flooring from the People's Republic of China: Preliminary Bona Fide Sale Analysis for Jiangsu Keri Wood Co., Ltd., dated concurrently with and hereby adopted by this notice; see also See Memorandum from Maisha Cryor, Office IV AD/CVD Operations, to Abdelali Elouaradia, Director, Enforcement and Compliance, Office IV entitled “Antidumping Duty New Shipper Review of Multilayered Wood Flooring from the People's Republic of China: Preliminary Bona Fide Sale Analysis for Zhejiang Simite Wooden Co., Ltd., dated concurrently with and hereby adopted by this notice (“Bona Fide Sales Analysis Memoranda”).

⁹ On February 24, 2016, the President of the United States signed into law the Trade Facilitation and Trade Enforcement Act of 2015, Public Law 114-125 (Feb. 24, 2016), which made amendments to section 751(a)(2)(B) of the Act. These amendments apply to this determination.

The Department preliminarily determines that the following weighted-average dumping margin exists for Keri Wood for the POR from December 1, 2014, through November 30, 2015:

Exporter | Producer | Weighted- average dumping margin (percent)
Jiangsu Keri Wood Co., Ltd | Jiangsu Keri Wood Co., Ltd | 0.00

Disclosure and Public Comment

The Department intends to disclose the analysis performed for these preliminary results to the parties within five days of the date of publication of this notice in accordance with 19 CFR 351.224(b). Interested parties may submit case briefs by no later than 30 days after the date of publication of these preliminary results of review.¹⁰ Rebuttals, limited to issues raised in the case briefs, may be filed by no later than five days after the case briefs are filed.¹¹

¹⁰ See 19 CFR 351.309(c).

¹¹ See 19 CFR 351.309(d).

Any interested party may request a hearing within 30 days of publication of this notice.¹² Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹³

¹² See 19 CFR 351.310(c).

¹³ See 19 CFR 351.310(d).

Unless the deadline is extended pursuant to section 751(a)(2)(B)(iii), the Department intends to issue the final results of this new shipper review, which will include the results of its analysis of all issues raised in the case and rebuttal briefs, within 90 days of publication of these preliminary results, pursuant to section 751(a)(2)(B)(iv) of the Act.

Assessment Rates

If the Department proceeds to a final rescission of Simite Wooden's NSR, the assessment rate to which Simite Wooden shipments will be subject will remain unchanged. However, for Keri Wood, and if the Department continues to find that Keri Wood did not make sales of subject merchandise at less than normal value, upon issuance of the final results, pursuant to 19 CFR 351.212(b), the Department intends to determine, and the U.S. Customs and Border Protection (“CBP”) shall assess, antidumping duties on all appropriate entries.¹⁴ The Department intends to issue assessment instructions to CBP 15 days after the date of publication of the final results of this new shipper review.

¹⁴ See 19 CFR 351.212(b)(1).

If the respondent's weighted average dumping margin is not zero or de minimis (i.e., less than 0.50 percent) in the final results, the Department intends to calculate importer-specific assessment rates on the basis of the ratio of the total amount of dumping calculated for each importer's examined sales to the total entered value of those sales, in accordance with 19 CFR 351.212(b)(1). Where an importer-specific ad valorem rate is not zero or de minimis, the Department intends to instruct CBP to collect the appropriate antidumping duties at the time of liquidation.¹⁵ Where either a respondent's weighted average dumping margin is zero or de minimis, or an importer-specific ad valorem rate is zero or de minimis, the Department intends to instruct CBP to liquidate appropriate entries without regard to antidumping duties.¹⁶

¹⁵ See 19 CFR 351.212(b)(1).

¹⁶ See 19 CFR 351.106(c)(2).

For entries that were not reported in the U.S. sales data submitted by Keri Wood or Simite Wooden (if applicable), the Department intends to instruct CBP to liquidate such entries at the rate for the PRC-wide entity.¹⁷ The final results of this review shall be the basis for the assessment of antidumping duties on entries of merchandise covered by the final results of this review and for future cash deposits of estimated antidumping duties, where applicable.

¹⁷ For a full discussion of this practice, see Non-Market Economy Antidumping Proceedings: Assessment of Antidumping Duties, 76 FR 65694 (October 24, 2011).

Cash Deposit Requirements

Effective upon publication of the final rescission of Simite Wooden's NSR, the Department will instruct CBP to discontinue the option of posting a bond or security in lieu of a cash deposit for entries of subject merchandise by Simite Wooden. If the Department proceeds to a final rescission of Simite Wooden's new shipper review, the cash deposit rate will continue to be the PRC-wide rate because the Department will not have determined individual dumping margins of for Simite Wooden. If the Department issues final results for Simite Wooden's NSR, the Department intends to instruct CBP to collect cash deposits, effective upon the publication of the final results, at the rates established therein.

However, for Keri Wood, the following cash deposit requirements will be effective upon publication of the final results of the new shipper reviews for shipments of the subject merchandise from the PRC entered, or withdrawn from warehouse, for consumption on or after the publication date, as provided by section 751(a)(2)(C) of the Act: (1) For subject merchandise produced and exported by Keri Wood,, the cash deposit rate will be that rate established in the final results of this new shipper review (except, if the rate is zero or de minimis, then a zero cash deposit will be required); (2) for previously investigated or reviewed PRC and non-PRC exporters not listed above that received a separate rate in a prior segment of this proceeding, the cash deposit rate will continue to be the existing exporter-specific combination rate; (3) for all PRC exporters of subject merchandise that have not been found to be entitled to a separate rate, the cash deposit rate will be that for the PRC-wide entity; and (4) for all non-PRC exporters of subject merchandise which have not received their own rate, the cash deposit rate will be the rate applicable to the PRC producer/exporter combination that supplied that non-PRC exporter. These deposit requirements, when imposed, shall remain in effect until further notice.

Notification to Importers

This notice also serves as a reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

Notification Regarding Administrative Protective Orders

This notice serves as a reminder to parties subject to an administrative protective order (APO) of their responsibility concerning the disposition of proprietary information disclosed under APO in accordance with 19 CFR 351.305(a)(3). Timely written notification of the return or destruction of APO materials, or conversion to judicial protective order, is hereby requested. Failure to comply with the regulations and the terms of an APO is a violation subject to sanction.

Notification to Interested Parties

These preliminary results are issued and published in accordance with sections 751(a)(1) and 777(i)(1) of the Act and 19 CFR 351.214 and 351.221(b)(4).

Dated: December 20, 2016.
Paul Piquado,
Assistant Secretary for Enforcement and Compliance.

Appendix I

List of Topics Discussed in the Preliminary Decision Memorandum

1. Summary

2. Background

3. Scope of the Order

4. Discussion of the Methodology

5. Bona Fide Sale Analysis

6. Non-Market Economy Country Status

7. Separate Rates

8. Absence of De Jure Control

9. Absence of De Facto Control

10. Surrogate Country

11. Economic Comparability

12. Significant Producer of Comparable Merchandise

13. Data Availability

14. Date of Sale

15. Determination of the Comparison Method

16. Results of the Differential Pricing Analysis

17. Fair Value Comparisons

18. U.S. Price

19. Value Added Tax

20. Normal Value

21. Factor Valuations

22. Currency Conversion

23. Section 777A(f) of the Act

24. Recommendation

[FR Doc. 2016-31354 Filed 12-27-16; 8:45 am]

BILLING CODE 3510-DS-P